DEPARTMENT OF HEALTH AND HUMAN SERVICES

Centers for Disease Control and Prevention

Prospective Grant of Exclusive License: Diagnostics of Fungal Infections

AGENCY: Technology Transfer Office, Centers for Disease Control and Prevention (CDC), Department of Health and Human Services.

ACTION: Notice.

SUMMARY: This is a notice in accordance with 35 U.S.C. 209(e) and 37 CFR 404.7(a)(1)(i) that the Centers for Disease Control and Prevention (CDC), Technology Transfer Office, Department of Health and Human Services (DHHS), is contemplating the grant of a worldwide, limited field of use, exclusive license to practice the inventions embodied in the patent application referred to below to AerovectRx (AVRX), Corporation having a place of business in Norcross, Georgia. The patent rights in these inventions have been assigned to the government of the United States of America. The patent applications to be licensed are:

PCT/US02/7973 entitled “Systems and Methods for Aerosol Delivery of Agents,” filed 03.13.2002; and,

PCT/US03/019684 entitled “Mixing Vial,” filed 06.20.2003.

Status: Pending.

Issue Date: N/A.

The prospective exclusive license will be royalty-bearing and will comply with the terms and conditions of 35 U.S.C. 209 and 37 CFR 404.7.

Technology: This technology adds a new way to deliver vaccines, specifically in mass immunization campaigns.

ADDRESSES: Requests for a copy of this patent application, inquiries, comments, and other materials relating to the contemplated license should be directed to Andrew Watkins, Director, Technology Transfer Office, Centers for Disease Control and Prevention (CDC), 4770 Buford Highway, Mailstop K-79, Atlanta, GA 30341, telephone: (770) 488-8610; facsimile: (770) 488-8615. Applications for a license filed in response to this notice will be treated as objections to the grant of the contemplated license. Only written comments and/or applications for a license which are received by CDC within sixty days of this notice will be considered. Comments and objections submitted in response to this notice will not be made available for public inspection, and, to the extent permitted by law, will not be released under the Freedom of Information Act, 5 U.S.C. 552. A Signed Confidential Disclosure Agreement (available under Forms at http://www.cdc.gov/tto) will be required to receive a copy of any pending patent application.

Dated: June 1, 2005.
James D. Seligman
Associate Director for Program Services, Centers for Disease Control and Prevention.

[FR Doc. 05-11512 Filed 6-9-05; 8:45 am]

BILLING CODE 4163-18-P